INTERNATIONAL TRADE COMMISSION

[Investigation Nos. 701-TA-565 and 731-TA-1341 (Review)]

Hardwood Plywood From China

Determination

On the basis of the record ¹ developed in the subject five-year reviews, the United States International Trade Commission (“Commission”) determines, pursuant to the Tariff Act of 1930 (“the Act”), that revocation of the antidumping and countervailing duty orders on hardwood plywood from China would be likely to lead to continuation or recurrence of material injury to an industry in the United States within a reasonably foreseeable time.

¹ The record is defined in § 207.2(f) of the Commission's Rules of Practice and Procedure (19 CFR 207.2(f)).

Background

The Commission instituted these reviews on December 1, 2022 (87 FR 73792) and determined on March 6, 2023 that it would conduct expedited reviews (88 FR 19986, April 4, 2023).

The Commission made these determinations pursuant to section 751(c) of the Act (19 U.S.C. 1675(c)). It completed and filed its determinations in these reviews on May 19, 2023. The views of the Commission are contained in USITC Publication 5426 (May 2023), entitled Hardwood Plywood from China: Investigation Nos. 701-TA-565 and 731-TA-1341 (Review).

By order of the Commission.
Issued: May 19, 2023.
Lisa Barton,
Secretary to the Commission.

[FR Doc. 2023-11108 Filed 5-24-23; 8:45 am]

BILLING CODE 7020-02-P